DEPARTMENT OF COMMERCE

National Oceanic and Atmospheric Administration

RIN 0648-XE240

North Pacific Fishery Management Council; Public Meeting

AGENCY: National Marine Fisheries Service (NMFS), National Oceanic and Atmospheric Administration (NOAA), Commerce.

ACTION: Notice of a public meeting.

SUMMARY: The North Pacific Fishery Management Council (Council) Ecosystem Committee will meet October 29-30, 2015, in Anchorage, AK.

DATES: The meeting will be held on Thursday, October 29, 2015, from 1 p.m. to 5 p.m., finishing in the afternoon on Friday, October 30, 2015.

ADDRESSES: The meeting will be held in the New Federal Building, 222 W. 7th Ave., Suite 552, Anchorage, AK 99513; telephone: (907) 271-6368.

Council address: North Pacific Fishery Management Council, 605 W. 4th Ave., Suite 306, Anchorage, AK 99501-2252; telephone (907) 271-2809.

FOR FURTHER INFORMATION CONTACT: Steve MacLean, Council staff; telephone: (907) 271-2809.

SUPPLEMENTARY INFORMATION:

Agenda

Thursday, October 29, 2015 Through Friday, October 30, 2015

The agenda will include: (a) Bering Sea Fishery Ecosystem Plan discussion paper, (b) NMFS draft policy on Ecosystem Based Fishery Management, and (c) the Groundfish Work Plan. The Agenda is subject to change, and the latest version will be posted at http://www.npfmc.org/.

Special Accommodations

These meetings are physically accessible to people with disabilities. Requests for sign language interpretation or other auxiliary aids should be directed to Shannon Gleason at (907) 271-2809 at least 7 working days prior to the meeting date.

Dated: October 7, 2015.
Tracey L. Thompson,
Acting Deputy Director, Office of Sustainable Fisheries, National Marine Fisheries Service.

[FR Doc. 2015-25962 Filed 10-9-15; 8:45 am]

BILLING CODE 3510-22-P